DEPARTMENT OF ENERGY

Federal Energy Regulatory Commission

Combined Notice of Filings #2

Take notice that the Commission received the following exempt wholesale generator filings:

Docket Numbers: EG12-68-000.

Applicants: Colorado Highlands Wind, LLC.

Description: Self-Certification of EWG of Colorado Highlands Wind, LLC.

Filed Date: 5/21/12.

Accession Number: 20120521-5071.

Comments Due: 5 p.m. ET 6/11/12.

Take notice that the Commission received the following electric rate filings:

Docket Numbers: ER12-1559-001.

Applicants: High Majestic Wind Energy Center, LLC.

Description: High Majestic Wind Energy Center, LLC submits tariff filing per 35.17(b): Amendment to the CFA Between HM I, HM II, and HM Interconnection to be effective 6/16/2012.

Filed Date: 5/21/12.

Accession Number: 20120521-5132.

Comments Due: 5 p.m. ET 6/11/12.

Docket Numbers: ER12-1819-000.

Applicants: Southwest Power Pool, Inc.

Description: Southwest Power Pool, Inc.'s Notice of Cancellation of Large Generator Interconnection Agreement.

Filed Date: 5/21/12.

Accession Number: 20120521-5062.

Comments Due: 5 p.m. ET 6/11/12.

Docket Numbers: ER12-1820-000.

Applicants: Southwest Power Pool, Inc.

Description: Southwest Power Pool, Inc.'s Notice of Cancellation of Generator Interconnection Agreement.

Filed Date: 5/21/12.

Accession Number: 20120521-5063.

Comments Due: 5 p.m. ET 6/11/12.

Docket Numbers: ER12-1821-000.

Applicants: Colorado Highlands Wind, LLC.

Description: Market-Based Rate Tariff to be effective 7/20/2012.

Filed Date: 5/21/12.

Accession Number: 20120521-5090.

Comments Due: 5 p.m. ET 6/11/12.

Docket Numbers: ER12-1822-000.

Applicants: IPR-GDF SUEZ Energy Marketing North America, Inc.

Description: Notice of Succession to be effective 5/22/2012.

Filed Date: 5/21/12.

Accession Number: 20120521-5128.

Comments Due: 5 p.m. ET 6/11/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 21, 2012.
Nathaniel J. Davis, Sr.,
Deputy Secretary.

[FR Doc. 2012-12892 Filed 5-25-12; 8:45 am]

BILLING CODE 6717-01-P